DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2016 Census Test.

OMB Control Number: 0607-XXXX.

Form Number(s):

Questionnaire

DF-1(ES)

DF-1(EC)

DF-1(EK)

Instruction Card

DF-33(ES)

DF-33(EC)

DF-33(EK)

Questionnaire Cover Letters

DF-16(L2)(ES)

DF-16(L2)(EC)

DF-16(L2)(EK)

DF-16(L4)(ES)

DF-16(L4)(EC)

DF-16(L4)(EK)

DF-17(L2)(ES)

DF-17(L2)(EC)

DF-17(L2)(EK)

Postcards/Reminder Letter

DF-9L(ES)

DF-9B(ES)

DF-9B(EC)

DF-9B(EK)

DF-9(2B)(ES)

DF-9(2B)(EC)

DF-9(2B)(EK)

DF-9C(ES)

DF-9C(EC)

DF-9C(EK)

DF-9(2C)(ES)

DF-9(2C)(EC)

DF-9(2C)(EK)

DF-9(AR)(1)

Languages Brochures

DF-12

DF-14

Information Insert

DF-17(TQA)

DF-17I(ES)

DF-17I(EC)

DF-17I(EK)

Envelopes

DF-6A(1)(IN)(ES)

DF-6A(IN)(ES)

DF-6U(IN)

DF-6U(1)(IN)

DF-8A(ES)

DF-8A(EC)

DF-8A(EK)

DF-5(ES)

Field Materials

DF-26B

DF-28(ES)

DF-28(EC)

DF-28(EK)

Internet Instrument Spec

COMPASS (NRFU/QA RI) Spec

Reinterview Instrument Spec (Coverage)

Type of Request: New Collection.

Number of Respondents: 412,348.

Average Hours per Response: 0.2.

Burden Hours: 68,954.

Estimated burden hours for 2016 Census Test:

Type of respondent/operation | Estimated number of respondents | Estimated time per response (minutes) | Estimated total annual burden hours
Self Response | 250,000 | 10 | 41,667
NRFU | 120,000 | 10 | 20,000
NRFU Quality Control Reinterview | 12,000 | 10 | 2,000
Non-ID Manual Processing—phone followup | 400 | 5 | 33
Coverage Reinterview | 24,500 | 10 | 4,084
Non-ID Response Validation | 5,000 | 10 | 834
Focus Group Selection Contacts | 288 | 3 | 15
Focus Group Participants | 160 | 120 | 320
Totals | 412,348 |  | 68,954

Needs and Uses: During the years preceding the 2020 Census, the Census Bureau is pursuing its commitment to reduce the cost of conducting the census while maintaining the quality of the results. A primary decennial census cost driver is the collection of data in person from addresses for which the Census Bureau received no reply via initially offered response options. We refer to these as nonresponse cases, and the efforts we make to collect data from these cases as the Nonresponse Followup, or NRFU, operation.

The 2016 Census Test will allow the Census Bureau to build upon past tests, to refine our plans and methods associated with the reengineered field operations for the NRFU operation of the Census. Namely, this test will allow us to:

• Test refinements to the ratios of field enumerators to field supervisors.

• Test refinements to our enhanced operational control system, including the way we assign work to field staff, and how those assignments are routed.

• Test alternatives to government furnished equipment for data collection, such as enumerator use of personally owned devices (sometimes known as Bring Your Own Device, or BYOD), or devices provided by a private company as part of a contract for wireless service (sometimes known as Device As A Service).

• Test refinements to our use of administrative records to reduce the NRFU workload.

• Test new methods of conducting NRFU quality control reinterviews.

Increasing the number of people who take advantage of self response options (such as responding online, completing a paper questionnaire and mailing it back to the Census Bureau, or responding via telephone) can contribute to a less costly census. The Census Bureau has committed to using the Internet as a primary response option in the 2020 Census, and we are studying ways to offer and promote this option to respondents. In addition to increasing and optimizing self response through the Internet, the Census Bureau plans to test the impacts of providing additional materials to respondents as part of their first mailing along with a letter invitation. One example of additional material is an insert to be included for traditionally hard-to-count populations. We will also test a tailored envelope treatment to determine whether this represents an effective way to encourage and support self response for respondents who speak languages other than English. We also will continue to study the option of allowing people to respond on the Internet without having or using a unique identification code previously supplied by the Census Bureau. Each of these will be discussed in more detail in subsequent sections of this supporting statement.

2016 Census Test—Los Angeles County (Part), California and Harris County (Part), Texas

The areas within Los Angeles County (part), California and Harris County (part), Texas were chosen based on a variety of characteristics—including language diversity, demographic diversity, varying levels of Internet usage, large metropolitan areas and high vacancy rates. These characteristics can help the Census Bureau refine its operational plans for the 2020 Census by testing operational procedures on traditionally hard-to-count populations. The tests will allow for our continued development of providing additional ways for the population to respond to the once-a-decade census, as well as more cost-effective ways for census takers to follow up with households that fail to respond.

Los Angeles County (part), California, places and census designated places (CDP)
Alhambra city
Los Angeles city
Montebello city
Monterey Park city
Pasadena city
Rosemead city
San Gabriel city
San Marino city
South El Monte city
South Pasadena city
Temple City city
East Los Angeles CDP
East Pasadena CDP
East San Gabriel CDP
San Pasqual CDP
South San Gabriel CDP
Harris County (part), Texas, places
Bunker Hill Village city
Hedwig Village city
Hilshire Village city
Houston city
Hunters Creek Village city
Jersey Village city
Piney Point Village city
Spring Valley Village city

To increase Internet self response rates, the Census Bureau will improve contact and notification strategies that were studied in prior testing. The core of our contact strategy is an Internet-push strategy, which was previously tested in the 2012 National Census Test, 2014 Census Test and the 2015 Optimizing Self Response and Census Tests and is now being further refined. We also introduced a supplemental contact strategy in the 2015 National Content Test, the Internet Choice panel, which we will continue to study in the 2016 Census Test. In the 2016 Census Test, improvements to this approach will be tested by modifying the content of our messages, including materials in the mailing packages.

We also will continue our efforts to make it easier for respondents by allowing them to respond without providing a pre-assigned identification (ID) number associated with their address. This response option, referred to as “Non-ID,” was successfully implemented on the Internet in the 2014 and 2015 Census Tests. In this test, we will continue to develop the infrastructure to deploy real-time processing of Non-ID responses. Specifically, we will implement automated processing of Non-ID responses in a cloud-based environment instead of using Census Bureau hardware. This work will help us prepare for conducting Non-ID Processing at the scale we anticipate for 2020. In addition, we will be conducting a manual matching and geocoding operation for Non-ID responses that could not be matched to a record in the Census address list, or assigned to a census block during automated processing. Some of this processing will require Census staff to call respondents to obtain further information, such as missing address items that could help us obtain a match to a record in the Census address list. In some cases, we may also ask for the respondent's assistance in accurately locating their living quarters on a map so that we can associate the response to the correct census block, which is required for data tabulation.

The 2016 Census Test will be comprised of four phases: Self Response, NRFU (with a reinterview component), Coverage Reinterview, and focus groups.

Self Response

We will implement an “Internet Push” contact strategy, which involves first sending a letter inviting people to respond via the Internet; then sending up to two postcard reminders to non-responding addresses; and ultimately sending a paper questionnaire to addresses that still have not responded. The Census Bureau will directly contact up to 250,000 addresses in each site to request self response via one of the available response modes (Internet, telephone, paper). Materials included in the mailing explain the test and provide information on how to respond. The impact of message content on self response will be tested by varying the content of the mailing packages in the “Internet Push” for different panels. Specifically, we will test language that addresses how participation in the Census benefits respondents' communities and cite the mandatory nature of the census. Mail panels targeting limited English proficiency (LEP) households will include a language insert as part of the contact strategy. LEP households represent a subsample of housing units in each test location. We also plan to include the Census Internet Uniform Resource Locator (URL) on envelopes with messaging in multiple languages for a panel of housing units. This is intended to serve as a prompt for LEP respondents to access the Census URL without needing to read a letter written in a language in which they are not fluent. An “Internet Choice” panel will also be tested; which involves first sending a questionnaire with a letter inviting people to respond via the Internet or by using the questionnaire; then sending up to two postcard reminders to non-responding addresses; and ultimately sending a second paper questionnaire to addresses that still have not responded. The design of the mail panels is fully described in Supporting Statement B.

In addition to supporting Non-ID self response and conducting manual processing of Non-ID returns when required, we will take steps to identify duplicate or potentially fraudulent Non-ID responses. For all Non-ID responses, we will compare response data to information contained in commercial lists and Federal administrative records maintained within the Census Bureau. This will help validate respondent-provided data as well as examine the gaps in coverage we might have in currently available administrative records datasets. Last, in order to confirm the results from the records linkage, we will conduct a Response Validation operation to recollect the response data for an estimated sample of 5,000 of the Non-ID returns. This will likely be performed as a combination of telephone interviews and in-person visits, but the proportions of each of these are still to be determined.

Telephone questionnaire assistance will be available to all respondents. In addition, on-line respondents will be provided with pre-defined “Help” screens or “Frequently Asked Questions” accessible through the Internet instrument. People who prefer not to respond via a paper form or on the Internet can also call the telephone questionnaire assistance number and speak to an agent to complete the questionnaire for their household.

Content Tests Objectives in Self Response and Nonresponse Followup Data Collection

The 2016 Census Test questionnaire will include questions on housing tenure, household roster, age, sex/gender, date of birth, race and Hispanic origin, and relationship. Based on results from the 2010 Race and Hispanic Origin Alternative Questionnaire Experiment (Compton, et al. 2012 ¹), the 2016 Census Test will include a combined race and Hispanic origin question intended to build on what is being tested in the 2015 National Content Test. This combined question provides examples and write-in areas for each major response category, including a response category for Middle Eastern and North African ethnicities. With this combined question format no separate “Hispanic origin” question is used. Rather, Hispanic ethnicity or origin is measured within the single item. Respondents are asked to self-identify by selecting one or more checkboxes, and to write-in a specific origin for each checkbox selected. The 2016 Census Test allows us to test responses to these questions in geographic areas with different race and Hispanic Origin concentrations from the prior test areas.

¹ Compton, E., Bentley. M., Ennis, S., Rastogi, S., (2012), “2010 Census Race and Hispanic Origin Alternative Questionnaire Experiment,” DSSD 2010 CPEX Memorandum Series #B-05-R2, U.S. Census Bureau.

The inclusion of the combined question will also allow the Census Bureau to conduct imputation research using this combined format in a setting when there are self responses, administrative records and NRFU enumerator responses. This will allow the Census Bureau to understand imputation approaches needed for a combined question.

We also plan to test variation in terminology by comparing “Am.” with “American” in the response category “Black or African Am.” on the Internet instrument. This research is being undertaken to assess the impact of different wording for the racial category that collects and tabulates data for the African American, African, and Afro-Caribbean populations. This test will provide insights to how respondents identify with the race category, depending on the wording used to describe the category itself (“Black or African Am.” vs. “Black or African American”).

For the relationship question, we plan to include variations in question wording associated with “non-relatives.” We will compare responses to a relationship question with, and without, the response categories “roomer or boarder” and “housemate or roommate.” Cognitive testing has repeatedly shown that respondents do not know what the Census Bureau sees as the differences between these categories.

The 2016 Census Test will continue to include the response categories recommended by the OMB Interagency Working Group (see section 11 of this document—Justification for Sensitive Questions) for opposite-sex and same-sex husband/wife/spouse households, and for the category for unmarried partner.

The 2016 Census Test will include a question on the Internet instrument that will allow respondents to report that a housing unit they own is vacant as of Census Day, and to provide the reason for the vacancy status (e.g., a seasonal or rental unit). Collecting these data from respondents may allow the Census Bureau to identify some vacant housing units during self response so they can be removed from NRFU operations.

The Census Bureau's research on how best to present and explain the residence rule (who to count) in specific situations will continue. The Internet data collection instrument will include various ways to ask about and confirm the number of persons residing at an address. Respondents will see one of three screens about the enumeration of people in their household: one that displays the Census Bureau's basic residence rule, and then asks for the number of people in the household based on that rule; One that asks for the number of people who live in the household but provides our residence rule definition in the help text; and one that asks if any other people live at the household, with the residence rule in the help text. After the names of the roster members are collected, the respondent will then see one of three series of undercount detection questions: One series asks for additional people on two separate screens, another series asks for additional people on only one screen, or no undercount questions at all. After the demographic items are collected, the respondent will then see overcount detection questions or, if the case had not received undercount questions, no overcount detection questions.

The materials mailed to the respondents will inform them that the survey is mandatory in accordance with title 13, United States Code, sections 141 and 193. This information also will be available via a hyperlink from within the Internet instrument.

Nonresponse Followup (NRFU) Operation Testing

The 2016 Census Test will determine our 2020 Census methods for conducting NRFU operations that will increase efficiency and reduce costs. Based on previous tests, the Census Bureau will refine its contact strategies and methods for field data collection, case assignment management, and field staff administrative functions. This will include further testing of how administrative records can be used to reduce the NRFU workload.

As part of the 2016 Census Test, we will collect housing unit status and enumerate the occupants of households that do not respond to the self response phase of the census using automated enumeration software on standard (iOS and Android operating system) smartphone devices. The test will enable our continued study of options for alternatives to using government furnished equipment. This includes options for an enumerator to use their own smartphone for enumeration, often known as “Bring Your Own Device (BYOD)”, and options to use a `Device as a Service' contract, where the Census Bureau will not own the smartphone devices outright, but instead will pay a vendor for their use, including any initialization and setup processes required. This has the potential to mitigate risks to the operation. For example, unpredictable increases in costs associated with device initialization and hardware support. We will also continue to operationally test the field data collection application we use on these devices. The devices will use a modified version of the software used in the 2015 Census Test, with updated capabilities for handling special non-interview cases (such as demolished homes and non-existent addresses), better handling of addresses with multiple units (like apartment buildings), a clearer path for enumerators to take when attempting to collect data from a householder's neighbor or another knowledgeable source, new screens related to detecting potential “overcount” in a household (scenarios where current household residents also lived at another location, like student housing), and numerous other minor incremental user interface and performance updates.

The Census Bureau also plans to test a newly redesigned portion of our quality assurance activities—the NRFU Reinterview program (NRFU-RI). We plan to test:

• New methodologies for selecting cases to be reinterviewed, including the potential use of operational control system data (paradata) and administrative records to detect potential falsification by enumerators

• Using our automated field data collection instrument for conducting these reinterviews

• Using our recently re-designed operational control system to optimize the routing and assignment of reinterview cases, and

• Using the same field staff to conduct both NRFU interviews and associated reinterviews, with an explicit rule within the instrument that an enumerator is not allowed to reinterview their own work.

All of these changes have the potential to lead to a more cost-effective, streamlined, and higher quality NRFU operation for the 2020 Census. We will continue to test our newly re-engineered field infrastructure, allowing us to refine our requirements for staffing ratios and position duties for 2020 Census operations. We will also continue to test our enhanced operational control system, using lessons learned from the 2015 Census Test to make further improvements to how assignments are made and routed. We will continue to test improvements to our use of systematic alerts that will quickly notify field supervisors of potential problem enumerators, detect possible falsification, and improve both quality and efficiency for the NRFU operation.

Additionally, we will continue to test our implementation of an `adaptive design' contact strategy: Using a varied number of personal visit attempts by geographic area based on criteria associated with people who are harder to count. We also will study when is the optimal point to discontinue attempts to collect information from each non-responding household, and instead move to attempting to collect information from a householder's neighbor or another knowledgeable source.

Finally, we will build upon work from the 2013, 2014, and 2015 Census Tests in a continued attempt to refine and evaluate our use of administrative records (including government and third-party data sources) to reduce the NRFU workload. Cases will be removed from the NRFU operation based on our administrative records modeling as follows:

• Any case that is given a status of vacant from our administrative records modeling will be immediately removed from the NRFU workload; and

• Any case that is given a status of occupied from our administrative records modeling will be removed from the NRFU workload after one unsuccessful attempt at field enumeration is made (as long as good administrative records exist for that case).

Unlike previous tests, for all cases removed from the NRFU workload in this way, we will test mailing these addresses a supplemental letter to prompt a self response. If these cases do not self-respond, we will enumerate the unit based on the results of our administrative records modeling.

For a sample of the cases that would be removed via this criteria, we will continue to perform the field followup activities. This will allow us to compare the outcomes of those that get a completed interview with our modeled status of the household, and determine the quality of our administrative record modeling.

Coverage Reinterview

As described previously, the 2016 Census Test Internet instrument contains embedded coverage experiments, and a reinterview is needed to quantify the effects of each particular version on the roster provided by the Internet respondent. The quality of the final household roster created from the panels with experimentally applied questions will be evaluated by a coverage reinterview conducted by telephone. Note that these panels are used to evaluate the different residence rule approaches used in the different questionnaire panels. The reinterview will contain extensive questions about potentially missed roster members and other places that any household members sometimes stay. Specifically, the reinterview will re-contact responders to determine if any people may have been left off the roster or erroneously included on the roster during the initial response. If there are indications during the reinterview that some people may have been left off the roster, then we will ask for demographic information about the missed people. If there are indications during the reinterview that some people may have been erroneously included, then we will ask for information about stay durations in order to resolve residency situations. The reinterview will be a Computer Assisted Telephone Interviewing (CATI) operation conducted in the Census Bureau's call centers.

In addition to contacting Internet responders, a small portion of people who responded by paper or as a part of NRFU will be selected for the Coverage Reinterview. The inclusion of such cases will allow us to quantify the quality of household rosters collected in these two other modes.

Focus Groups

Following the end of data collection, the Census Bureau will conduct focus groups with 2016 Census Test participants to ask about their experience. Topics will include their opinions on the use of administrative records by the Census Bureau. Participants also will be asked about their general concerns with government data collection and the government's ability to protect confidential data. The specific information collection materials for those activities will be submitted separately as non-substantive changes.

Testing in 2016 is necessary to build on the findings from prior testing and to establish recommendations for contact strategies, response options, and field operation efficiencies that can be further refined and deployed again in subsequent operational and system development activities. At this point in the decade, the Census Bureau needs to solidify evidence showing whether the strategies being tested can reduce the cost per housing unit during a decennial census, while still providing high quality and accuracy of the census data. The results of the 2016 Census Test from both sites will inform decisions that the Census Bureau will make about refining the detailed operational plan for the 2020 Census and will help guide the evaluation of additional 2020 Census test results later this decade.

Along with other results related to content, the response rates to paper and Internet collection will be used to help inform 2020 Census program planning and cost estimates. Several versions of some of the demographic questions and versions of coverage questions are included in this test in order to determine further the best questions and procedures for collecting the data from hard-to-count populations and achieve optimal within-household person coverage within the decennial census.

Testing enhancements to Non-ID processing will inform final planning for the 2020 Census design, as well as the infrastructure required to support large scale, real-time processing of electronic Non-ID response data submitted via the Internet. Building upon previous Census Tests, the NRFU portion of the 2016 Census Test will inform the following important decisions for conducting the 2020 Census:

• We will continue to research the cost and quality impact of reducing the NRFU caseload through the use of administrative records information, to inform our final strategy for the use of administrative records. This test will also allow us to further define our core set of administrative records that will be used for the 2020 Census, and our strategies for acquiring and using those records. This research will help us achieve our goal of a more cost-effective 2020 Census, while maintaining quality of the results.

• We will continue to research the cost and quality impacts of new NRFU contact strategies that make use of adaptive design and a re-engineered management structure employing automated payroll, automated training, and minimal face-to-face contact between enumerators and supervisors. Enumerators are asked to provide work-time availability in advance, and the system then will assign the optimal number of cases to attempt each day, as well as the optimal route to follow that day. Again, this operational research will help us towards our goal of a more cost-effective 2020 Census, while maintaining quality of the results.

• We will be able to determine at what rate field staff are willing to use their own personally owned devices to conduct Census enumeration, and continue to develop our technical processes to enable this to be done in a secure and cost-effective manner. We will also be able to make quality and cost determinations about a `Device as a Service' option, and be able to develop more mature cost models to inform our decisions related to the device provision strategies for the 2020 Census NRFU operation.

• We will be able to determine the cost and quality impacts of our newly re-engineered NRFU Reinterview quality assurance program. This data will inform our decision on an integrated and re-designed approach to quality assurance for the 2020 Census.

Affected Public: Individuals or Households.

Frequency: One time.

Respondent's Obligation: Mandatory.

Legal Authority: Title 13, United States Code, sections 141 and 193.

This information collection request may be viewed at www.reginfo.gov. Follow the instructions to view Department of Commerce collections currently under review by OMB.

Written comments and recommendations for the proposed information collection should be sent within 30 days of publication of this notice to OIRA_Submission@omb.eop.gov or fax to (202) 395-5806.

Dated: November 4, 2015.
Glenna Mickelson,
Management Analyst, Office of the Chief Information Officer.

[FR Doc. 2015-28416 Filed 11-6-15; 8:45 am]

BILLING CODE 3510-07-P